DEPARTMENT OF COMMERCE

Bureau of Industry and Security

Action Affecting Export Privileges; Phaedon Nicolas Criton Constan-Tatos and Assegai Trading (Pty) Ltd.; In the Matter of: Phaedon Nicolas Criton Constan-Tatos (a.k.a. Fred Tatos); 119 Main Road, P.O. Box 30, Plumstead 7800, Cape Town, South Africa; Respondent, and Assegai Trading (Pty) Ltd.: Four Loop Street, P.O. Box 4782, Cape Town 8001, South Africa; Related Person

Order Making Order Denying Export Privileges of Phaedon Nicholas Criton Constan-Tatos (a.k.a. Fred Tatos) Applicable to Related Person Assegai Trading (Pty) Ltd.

Pursuant to Section 766.23 of the Export Administration Regulations (“EAR”), the Bureau of Industry and Security (“BIS”), U.S. Department of Commerce, through its Office of Export Enforcement (“OEE”), has requested that I make the Denial Order that was imposed against the individual Phaedon Nicholas Criton Constan-Tatos (a.k.a. Fred Tatos) (“Tatos”) on November 15, 2005 (70 FR 69311) applicable to the following entity (hereinafter, the “Related Person”), as a person related to Tatos: Assegai Trading (Pty) Ltd., Four Loop Street, P.O. Box 4782, Cape Town 8001, South Africa.

Section 766.23 of the EAR provide that “[i]n order to prevent evasion, certain types of orders under this part may be made applicable not only to the respondent, but also to other persons then or thereafter related to the respondent by ownership, control, position of responsibility, affiliation, or other connection in the conduct of trade or business. Orders that may be made applicable to related persons include those that deny or affect export privileges * * *.” 15 CFR 766.23(a).

On November 15, 2005, an Order pursuant to Part 766 of the EAR imposing a five-year denial of export privileges against the individual Phaedon Nicholas Criton Constan-Tatos (a.k.a. Fred Tatos), Suburban Guns (Pty) Ltd., 119 Main Road, P.O. Box 30, Plumstead 7800, Cape Town, South Africa was published in the Federal Register to conclude administrative charges pending against Tatos related to his violation of a Denial Order previously imposed against Suburban Guns (Pty) Ltd. See 70 FR 69311 (Nov. 15, 2005). This Order is an order that may be made applicable to related persons pursuant to Section 766.23.

BIS has presented evidence that indicates that the Related Person is related to Tatos by ownership, control, position of responsibility, affiliation, or other connection in the conduct of trade or business, and that it is necessary to add this entity to the Denial Order imposed against Tatos in order to avoid evasion of that Order.

BIS notified the Related Person of its plans to take this action on December 15, 2005. Specifically, BIS provided notice to three individuals who were believed to be associated with the Related Person. In response, Tatos submitted comments on behalf of the Related Person stating that he was related to it by reason of being its business and company director. Tatos further stated that he did not believe it was appropriate to make the Denial Order imposed against him applicable to the Related Person. BIS also received comments from a second individual, who also stated that the Related Person is operated by Tatos.

It is my belief that Tatos' past actions of violating the Denial Order imposed against Suburban Guns (Pty) Ltd. and his justification for committing those violations indicate that he is prepared to take steps to both violate and evade orders issued against him by BIS. Accordingly, I find that it is necessary to make the Order imposed against Tatos applicable to the Related Person to prevent the evasion of that Order.

It is now therefore ordered,

First, that having been provided notice and opportunity for comment as provided in Section 766.23 of the Export Administration Regulations (the “Regulations”), the following party (“Related Person”) has been determined to be related to Phaedon Nicholas Criton Constan-Tatos (a.k.a. Fred Tatos), Suburban Guns (Pty) Ltd., 119 Main Road, P.O. Box 30, Plumstead 7800, Cape Town, South Africa (“Tatos”) by affiliation, ownership, control, or position of responsibility in the conduct of trade or related services, and it has been deemed necessary to make the Order denying the export privileges of Tatos applicable to this Related Person in order to prevent evasion of the Order: Assegai Trading (Pty) Ltd., Four Loop Street, P.O. Box 4782, Cape Town 8001, South Africa.

Second, that the denial of export privileges described in the Order against Tatos, which was published in the Federal Register on November 15, 2005 at 70 FR 69,311, shall be made applicable to the Related Person until its expiration on November 15, 2010, as follows:

I. The Related Person, its successors or assigns, and when acting for or on behalf of the Related Person, its officers, representatives, agents, or employees (collectively, “Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that in accordance with the provisions of Section 766.23(c) of the Regulations, the Related Person may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order shall be published in the Federal Register and a copy provided to the Related Person.

This Order is effective upon publication in the Federal Register.

Entered this 17th day of March, 2006.
Darryl W. Jackson,
Assistant Secretary of Commerce for Export Enforcement.

[FR Doc. E6-4267 Filed 3-23-06; 8:45 am]

BILLING CODE 3510-DT-P